DEPARTMENT OF TRANSPORTATION

Federal Aviation Administration

14 CFR Part 39

[Docket No. 97-ANE-50-AD; Amendment 39-13222; AD 2003-14-03]

RIN 2120-AA64

Airworthiness Directives; Textron Lycoming Fuel Injected Reciprocating Engines

AGENCY: Federal Aviation Administration, DOT.

ACTION: Final rule.

SUMMARY: This amendment supersedes an existing airworthiness directive (AD), that is applicable to certain Textron Lycoming reciprocating engines with certain Crane/Lear Romec “AN” rotary fuel pumps installed. That AD currently requires initial and follow-up torque check inspections of pump relief valve attaching screws. This amendment requires the same initial and follow-up torque check inspections of relief valve attaching screws, and adds as a terminating action, replacement of the affected fuel pump at or before the overhaul interval, with a fuel pump having a new design valve housing. This amendment is prompted by the introduction of a new design pump relief valve housing and associated parts that provide enhanced resistance to fuel leakage, and the need for clarification of the requirements of the current AD. The actions specified by this AD are intended to prevent rotary fuel pump leaks, which could result in an engine failure, engine fire, and damage to or loss of aircraft.

DATES: Effective August 14, 2003. The incorporation by reference of certain publications listed in the regulations is approved by the Director of the Federal Register as of August 14, 2003.

ADDRESSES: The service information referenced in this AD may be obtained from Lycoming, 652 Oliver St., Williamsport, PA 17701; telephone (717) 327-7080; fax (717) 327-7100. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: Norm Perenson, Aerospace Engineer, New York Aircraft Certification Office, FAA, Engine and Propeller Directorate, 10 Fifth Street, 3rd floor, Valley Stream, NY 11581-1200; telephone (516) 256-7537; fax (516) 568-2716.

SUPPLEMENTARY INFORMATION: A proposal to amend part 39 of the Federal Aviation Regulations (14 CFR part 39) by superseding AD 98-18-12, Amendment 39-10728 (63 FR 48571, September 11, 1998, which is applicable to certain Textron Lycoming reciprocating engines with certain Crane/Lear Romec “AN” rotary fuel pumps installed was published in the Federal Register on December 13, 2002 (67 FR 76702). That action proposed to require the same initial and follow-up torque check inspections of relief valve attaching screws, and add as a terminating action, replacement of the affected fuel pump at or before the overhaul interval, with a fuel pump having a new design valve housing in accordance with Lycoming Service Bulletin (SB) No. 529B, dated June 10, 2002.

Comments

Interested persons have been afforded an opportunity to participate in the making of this amendment. Due consideration has been given to the comment received.

Request for Additional Alternative Methods of Compliance

One commenter requests that the installation of fuel pumps that were FAA-approved by a supplemental type certificate (STC) issued in October 2002 should be considered as an alternative method of compliance (AMOC) to this AD. The commenter believes these fuel pumps are a direct replacement for the Crane/Lear Romec fuel pumps affected by this AD.

The FAA does not agree. The fuel pumps that were approved by the STC have a different part number than the the Crane/Lear Romec fuel pumps in this AD. Accordingly, the fuel pumps installed under the STC are not subject to the inspections required by this AD and may be installed without an AMOC. Therefore, no changes will be made to the AD.

After careful review of the available data, including the comment noted above, the FAA has determined that air safety and the public interest require the adoption of the rule as proposed.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-10728 (63 FR 48571, September 11, 1998) and by adding a new airworthiness directive, Amendment 39-13222, to read as follows:

2003-14-03 Textron Lycoming: Amendment 39-13222. Docket No. 97-ANE-50-AD. Supersedes AD 98-18-12, Amendment 39-10728.

Applicability: This airworthiness directive (AD) is applicable to Textron Lycoming IO-320, LIO-320, IO-360, HIO-360, TIO-360, LTIO-360, GO-435, GO-480, IGO-480-A1B6, IO-540, IGO-540, AEIO-540, HIO-540, TIO-540, LTIO-540, TIGO-541, IO-720, and TIO-720 reciprocating engines, with Crane/Lear Romec RG9080, RG9570, and RG17980 series “AN” rotary fuel pumps listed in Table 1 installed. Table 1 follows:

Table 1.—Applicable Pump Cross Reference List
Lear/Romec Series | Textron Lycoming Part Number (P/N)
RG9080F2 | 68262, 68262-85
RG9080J4A | LW-13909, LW-13909-85
RG9080J6A | LW-14444, LW-14444-85
RG9080J7A | LW-13920, LW-13920-85
RG9080J8A | LW-15740, LW-15740-85
RG9570K1 | 62E22288
RG9570P/P1 | LW-19012
RG17980 | 74547, 74547-85
RG17980A | 76188, 76188-85
RG17980D | 76486, 76486-85
RG17980E | 77443, 77443-85
RG17980J | 78993, 78993-85
RG17980K | LW-11166, LW-11166-85
RG17980P | LW-12534, LW-12534-85
RG17980U | 62D21153, 62D21

These engines are installed on, but not limited to fuel injected, reciprocating engine-powered aircraft manufactured by Cessna, The New Piper, Inc., Mooney, Raytheon (Beech), Bellanca, Champion, Partenavia, Rockwell, Schweizer, Enstrom, Aerospatiale (SOCATA), Maule, Aero Commander, Helio, Hiller, and Pacific Aerospace Corp.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless already done.

To prevent rotary fuel pump leaks, which could result in an engine failure, engine fire, and damage to or loss of the aircraft, accomplish the following:

(a) If the Lear/Romec part number (P/N) on rotary fuel pumps, series RG9080, RG9570, or RG17980 has an “/M” suffix, the pump has been modified, and no further action is required.

(b) If the P/N does not have an “/M” suffix, perform initial and follow-up torque check inspections of pump relief valve attaching screws in accordance with the Accomplishment Instructions of Lycoming Service Bulletin (SB) No. 529B, dated June 10, 2002, as follows:

(1) Within 10 hours time-in-service (TIS), or 30 days after the effective date of this AD, whichever occurs first, perform the initial torque check inspection. If the torque does not meet the specifications in Lycoming SB No. 529B, dated June 10, 2002, tighten screws to the required torque in accordance with that SB.

(2) Perform follow-up torque check inspections at 50 hour intervals TIS, or 6 months since the previous torque check inspection, whichever occurs first. If the torque does not meet the specification in Lycoming SB No. 529B, dated June 10, 2002, during this follow-up inspection, tighten screws to the required torque in accordance with that SB.

(3) Continue the follow-up torque check inspections required by paragraph (a)(2) of this AD until:

(i) The accumulation of 100 hours TIS since the inspection with the torque remaining within the SB specification; or

(ii) The torque meets the SB specification during the initial inspection and a subsequent inspection taking place after accumulating an additional 50 hours TIS also meets the SB specification.

(4) After the accumulation of 100 hours TIS since the inspection with the torque remaining within the SB specification; visually inspect the pump at 50-hour intervals until the pump is replaced with a modified pump (with the “/M” after the part number).

(c) Replacement of a rotary fuel pump series RG9080, RG9570, or RG17980, with an unmodified pump (without the “/M” after the part number) requires repeating the initial and follow-up inspections in accordance with paragraph (b) of this AD.

Optional Terminating Action

(d) Replacement of a rotary fuel pump series RG9080, RG9570, or RG17980, with a modified pump (with the “/M” after the part number) constitutes terminating action for the inspection requirements specified in paragraphs (b)(1) through (b)(4) of this AD.

Alternative Methods of Compliance

(e) An alternative method of compliance or adjustment of the compliance time that provides an acceptable level of safety may be used if approved by the Manager, New York Aircraft Certification Office (ACO). Operators must submit their request through an appropriate FAA Principal Maintenance Inspector, who may add comments and then send it to the Manager, New York ACO.

Note 2: Information concerning the existence of approved alternative methods of compliance with this airworthiness directive, if any, may be obtained from the New York ACO.

Special Flight Permits

(f) Special flight permits may be issued in accordance with §§ 21.197 and 21.199 of the Federal Aviation Regulations (14 CFR 21.197 and 21.199) to operate the aircraft to a location where the requirements of this AD can be done.

Documents That Have Been Incorporated by Reference

(g) The actions must be done in accordance with Lycoming Service Bulletin No. 529B, dated June 10, 2002. This incorporation by reference was approved by the Director of the Federal Register in accordance with 5 U.S.C. 552(a) and 1 CFR part 51. Copies may be obtained from Lycoming, 652 Oliver St., Williamsport, PA 17701; telephone (717) 327-7080; fax (717) 327-7100. Copies may be inspected at the FAA, New England Region, Office of the Regional Counsel, 12 New England Executive Park, Burlington, MA; or at the Office of the Federal Register, 800 North Capitol Street, NW, suite 700, Washington, DC.

Effective Date

(h) This amendment becomes effective on August 14, 2003.

Issued in Burlington, Massachusetts, on June 30, 2003.
Francis A. Favara,
Acting Manager, Engine and Propeller Directorate, Aircraft Certification Service.

[FR Doc. 03-17019 Filed 7-9-03; 8:45 am]

BILLING CODE 4910-13-P